FEDERAL MARITIME COMMISSION

Notice of Request for Additional Information

The Commission gives notice that it has requested that the parties to the below listed agreement provide additional information pursuant to section 6(d) of the Shipping Act of 1984, 46 U.S.C. app. 1705(d). The Commission has determined that further information is necessary to evaluate the impact of the proposed agreement on transportation costs and services. This action prevents the agreement from becoming effective as originally scheduled.

Agreement No.: 201128.

Title: Florida Ports Conference II.

Parties: Canaveral Port Authority; Broward County, Port Everglades Department; Jacksonville Port Authority; Port of Key West, City of Key West Transportation Department; Manatee County Port Authority; Miami-Dade County, Port of Miami; Ocean Highway and Port Authority, Nassau County, Port of Fernandina; Port of Palm Beach District; Panama City Port Authority; City of Pensacola, Port of Pensacola; and Tampa Port Authority.

Dated: March 29, 2002.
By Order of the Federal Maritime Commission.
Bryant L. VanBrakle,
Secretary.

[FR Doc. 02-8048 Filed 4-2-02; 8:45 am]

BILLING CODE 6730-01-P